DEPARTMENT OF TRANSPORTATION

Federal Aviation Administration

Notice of Intent To Rule on Request To Release Airport Property at the Former Stapleton International Airport, Denver, Colorado

AGENCY: Federal Aviation Administration (FAA), DOT.

ACTION: Notice of request to release airport property.

SUMMARY: The FAA proposes to rule and invite public comment on the release of land at the former Stapleton International Airport (SIA) under the provisions of Section 125 of the Wendell H. Ford Aviation Investment Reform Act for the 21st Century (AIR 21), now 49 U.S.C. 47107(h)(2).

DATES: Comments must be received on or before May 11, 2015.

ADDRESSES: Comments on this application may be mailed or delivered to the FAA at the following address: Mr. John P. Bauer, Manager, Federal Aviation Administration, Northwest Mountain Region, Airports Division, Denver Airports District Office, 26805 E. 68th Avenue, Suite 224, Denver, Colorado 80249-6361.

In addition, one copy of any comments submitted to the FAA must be mailed or delivered to Mr. Greg Holt, Stapleton Redevelopment Program Manager, Denver International Airport, at the following address: Mr. Greg Holt, Stapleton Redevelopment Program Manager, Denver International Airport, 8500 Pena Boulevard, Ninth Floor, Room 9870, Denver, Colorado 80249-6340.

FOR FURTHER INFORMATION CONTACT: Mr. Marc Miller, Colorado Engineer/Compliance Specialist, Federal Aviation Administration, Northwest Mountain Region, Denver Airports District Office, 26805 E. 68th Avenue, Suite 224, Denver, Colorado 80249-6361.

The request to release property may be reviewed, by appointment, in person at this same location.

SUPPLEMENTARY INFORMATION: The FAA invites public comment on the request to release property at the former Stapleton International Airport under the provisions of the AIR 21 (49 U.S.C. 47107(h)(2)).

The Airport and Airway Safety and Capacity Expansion Act of 1987, Public Law 100-223, 101 Stat. 1529, Section 313(a), gave the Secretary of Transportation the authorization, subject to the provisions of Section 4 of the Act of October 1, 1949 (63 Stat. 700; 50 U.S.C. App. 1622c), to grant Stapleton International Airport release from any of the terms, conditions, reservations, or restrictions contained in each deed of conveyance under which the United States conveyed property to the City and County of Denver, Colorado, on which any portion of Stapleton International Airport is located. This included property conveyed under Section 16 of the Federal Airport Act (60 Stat. 179).

On April 3, 2015, the FAA determined that the request to release property at the former Stapleton International Airport submitted by the City and County of Denver meets the procedural requirements of the Federal Aviation Administration.

The following is a brief overview of the request:

The City and County of Denver is proposing the release from the terms, conditions, reservations and restrictions on 73.310 acres of property identified as SIA Section 10 (Eastern Portion) at the former Stapleton International Airport. This parcel was conveyed from the United States of America to the City and County of Denver to be used for aviation development on October 29, 1969. Denver voters endorsed the plan to build a new airport, to be called Denver International Airport. Stapleton International Airport closed on February 28, 1995, when Denver International Airport opened, and the FAA transferred all City and County of Denver's grant obligations in connection with Stapleton International Airport to the development and operation of Denver International Airport. The Stapleton property has slowly been redeveloped over the past 20 years for homes, businesses, roads, parks, and open space, in accordance with zoning, plats, and general development plans approved by the City and County of Denver. The sale of this property will be based on an appraisal conducted in January 2000 which was approved by the FAA in April 2000. The City and County of Denver will treat all proceeds as airport revenue and will be used exclusively in connection with Denver International Airport, specifically for the payment of debt.

Any person may inspect, by appointment, the request in person at the FAA office listed above under FOR FURTHER INFORMATION CONTACT.

In addition, any person may, upon appointment and request, inspect the application, notice and other documents germane to the application in person at the Denver International Airport.

Issued in Denver, Colorado on April 3, 2015.
John P. Bauer,
Manager, Denver Airports District Office.

[FR Doc. 2015-08206 Filed 4-8-15; 8:45 am]

BILLING CODE 4910-13-P